SECURITIES AND EXCHANGE COMMISSION

[Release No. 34-64226A; File No. SR-FINRA-2011-005]

Self-Regulatory Organizations; Financial Industry Regulatory Authority, Inc.; Order Granting Approval of a Proposed Rule Change Relating to Promissory Note Proceedings; Correction

April 13, 2011.

Need for Correction

In FR Document No. 2011-8897 beginning on page 20741 as published on Wednesday, April 13, 2011, the Commission issued Release No. 34-64226, an order approving the proposed rule change by the Financial Industry Regulatory Authority, Inc. (“FINRA”) to amend Rule 13806 of the Code of Arbitration Procedure for Industry Disputes (“Industry Code”). Commission staff discovered that a statement in the introduction section of that order mischaracterized the nature of the rule change which was described accurately in the remainder of the order. The staff believes this mischaracterization was the result of an editing error.

This correction does not substantively amend the Commission's approval order. The sole purpose of this correction is to rectify the error in the introduction section and alleviate any potential confusion. The introduction section of this approval order is being republished with the correction.

Correction of Publication

Accordingly, the Introduction of the approval order is republished to correct a statement therein, as follows:

I. Introduction

On February 4, 2011, the Financial Industry Regulatory Authority, Inc. (“FINRA”) filed with the Securities and Exchange Commission (“Commission”), pursuant to Section 19(b)(1) of the Securities Exchange Act of 1934 (“Act”),¹ and Rule 19b-4 thereunder,² a proposed rule change to amend Rule 13806 of the Code of Arbitration Procedure for Industry Disputes (“Industry Code”) to provide that FINRA will appoint a chair-qualified public arbitrator to a panel resolving a promissory note dispute instead of a chair-qualified public arbitrator also qualified to resolve a statutory discrimination claim. The proposed rule change was published for comment in the Federal Register on February 22, 2011.³ The Commission did not receive any comments on the proposal. This order approves the proposed change.

¹ 15 U.S.C. 78s(b)(1).

² 17 CFR 240.19b-4.

³ See Securities and Exchange Act Release No. 63909 (February 15, 2011), 76 FR 9838 (February 22, 2011) (“Notice”).

For the Commission, by the Division of Trading and Markets, pursuant to delegated authority.⁴
⁴ 17 CFR 200.30-3(a)(12).
Cathy H. Ahn,
Deputy Secretary.

[FR Doc. 2011-9413 Filed 4-18-11; 8:45 am]

BILLING CODE 8011-01-P